DEPARTMENT OF HEALTH AND HUMAN SERVICES

Centers for Disease Control and Prevention

[60Day-02-42]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project:Estimating the cost of sigmoidoscopy and colonoscopy for colorectal cancer screening in U.S. healthcare facilities: Are current reimbursement levels adequate?—NEW—National Center for Chronic Disease Prevention and Health Promotion (NCCDPHP), Centers for Disease Control and Prevention (CDC).

Despite strong scientific evidence that screening for colorectal cancer (CRC) reduces the incidence and mortality from this disease, current screening rates in the United States remain low. While lack of awareness about screening recommendation may explain the low demand for regular screening among average risk individuals, recent findings emphasize the supply side barriers to CRC screening. For example, given the size of the U.S. population greater than 50 years of age and the number of practicing gastroenterologists, there may not be enough specialists to perform all recommended screening flexible sigmoidoscopies and colonoscopies, as well as follow-up colonoscopies. In the face of efforts by CDC and other public health agencies to promote CRC screening, it is necessary to determine that supply will be sufficient to meet the increased demand for these procedures. Primary care physicians could fill the gap if reimbursement levels are adequate to cover the costs of these procedures in office-based settings. However, currently there is little information available about the actual cost of providing these procedures in different medical practice settings. The purpose of this request is to obtain OMB clearance to conduct a survey of a nationally representative sample of medical practices providing these procedures in order to estimate the fixed and variable costs of sigmoidoscopy and colonoscopy for colorectal cancer screening and follow-up services.

The estimated procedure costs will be compared across settings and provider types to assess economies of scale and scope. Estimated average costs will be compared with Medicare and other reimbursement levels for these procedures to assess the financial incentives to providers to perform these procedures in an office-based setting. Results of this study will be used to better define the economics of colorectal cancer screening. There are no costs to respondents except for their time.

Form type | Number of respondents | Number of responses/ respondent | Average burden/ response (in hours) | Total burden (in hours)
Telephone survey | 3000 | 1 | 5/60 | 250
Mailed survey | 2500 | 1 | 35/60 | 1458
Total |  |  |  | 1708

Dated: April 10, 2002.
Nancy E. Cheal,
Acting Associate Director for Policy, Planning and Evaluation, Centers for Disease Control and Prevention.

[FR Doc. 02-9384 Filed 4-17-02; 8:45 am]

BILLING CODE 4163-18-P